SMALL BUSINESS ADMINISTRATION

[Disaster Declaration #15144 and #15145; Oklahoma Disaster Number OK-00115]

Presidential Declaration of a Major Disaster for Public Assistance Only for the State of Oklahoma

AGENCY: U.S. Small Business Administration.

ACTION: Amendment 1.

SUMMARY: This is an amendment of the Presidential declaration of a major disaster for Public Assistance Only for the State of Oklahoma (FEMA-4315-DR); dated 05/26/2017.

Incident: Severe Storms, Tornadoes, and Flooding.

Incident Period: 04/28/2017 through 05/02/2017.

DATES: Effective 07/07/2017.

Physical Loan Application Deadline Date: 07/25/2017.

Economic Injury (Eidl) Loan Application Deadline Date: 02/26/2018.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416, (202) 205-6734.

SUPPLEMENTARY INFORMATION: The notice of the President's major disaster declaration for Private Non-Profit organizations in the State of Oklahoma, dated 05/26/2017, is hereby amended to include the following areas as adversely affected by the disaster.

Primary Counties: Dewey, Pawnee, Rogers.

All other information in the original declaration remains unchanged.

(Catalog of Federal Domestic Assistance Number 59008)

James E. Rivera,
Associate Administrator for Disaster Assistance.

[FR Doc. 2017-14708 Filed 7-12-17; 8:45 am]

BILLING CODE 8025-01-P